DEPARTMENT OF THE INTERIOR

Bureau of Land Management

[CA-68086-1020-01]

Notice of Intent To Prepare an EIS Proposed Renewal of Ord Mountain Grazing Lease in Critical Habitat

AGENCY: Bureau of Land Management, Interior.

ACTION: Notice of Intent.

SUMMARY: The Bureau of Land Management (BLM) in coordination with the U.S. Fish and Wildlife Service and the California Department of Fish and Game will prepare an Environmental Impact Statement (EIS) to consider alternatives for the proposed renewal of cattle grazing privileges within the Ord Mountain Grazing Allotment, located approximately 20 miles south of Barstow, California. This allotment includes public rangelands in San Bernardino County that have been designated by the U.S. Fish and Wildlife Service as critical habitat for the desert tortoise (Gopherus agassizii), a species State and federally listed as threatened.

The lessee, Dave Fisher, has applied to the Bureau of Land Management for renewal of his grazing lease for a period not to exceed ten (10) years under the same terms and conditions as those under which he has been grazing livestock in this area for the reasonably foreseeable past.

A range of alternatives to be analyzed, include the no action alternative (no lease renewal), to renewal under the existing terms as modified to consider new policies and changing conditions, including additional alternatives that address seasonal grazing restrictions, modifications of range improvements and other changes to the existing lease, primarily to address critical desert tortoise habitat issues and areas not meeting proper functioning condition.

Public Participation: A public scoping meeting will be held at the Barstow Field Office of BLM, 2601 Barstow Rd., Barstow, CA, on September 21, 2000 at 7 p.m. Comments presented during this meeting serve to provide additional issues for the EIS. If you would like to get formal comments into the record, please provide them in writing at the meeting or within thirty days of this notice. Issues identified to date include the requirement to consult with the lessee, impacts to desert tortoise and the Ord-Rodman Critical Habitat Unit (CHU), health of native vegetative communities and proper utilization, proliferation of exotic invasive species, the relationship to other land uses; impacts to wilderness qualities, potential for accelerated soil erosion, water quality impacts and effects to riparian and wetland habitat values.

ADDRESSES: Send comments to: BLM, Barstow Field Office, 2601 Barstow Road, Barstow, CA 92311, Attn: Larry Blaine. For further information on this proposal, or to be placed on the mailing list for the EIS contact BLM at the above address or by telephone at (760) 252-6079.

Dated: August 23, 2000.
Harold Johnson,
Acting Field Manager, Barstow Field Office.

[FR Doc. 00-21989 Filed 8-28-00; 8:45 am]

BILLING CODE 4310-40-M